ENVIRONMENTAL PROTECTION AGENCY

[ER-FRL-9024-3]

Environmental Impact Statements; Notice of Availability

Responsible Agency: Office of Federal Activities, General Information (202) 564-7146 or http://www2.epa.gov/nepa.

Weekly receipt of Environmental Impact Statements (EISs)

Filed 11/23/2015 Through 11/27/2015

Pursuant to 40 CFR 1506.9.

Notice

Section 309(a) of the Clean Air Act requires that EPA make public its comments on EISs issued by other Federal agencies. EPA's comment letters on EISs are available at: http://cdxnodengn.epa.gov/cdx-nepa-public/action/eis/search.

EIS No. 20150337, Final, BR, CA, Coordinated Long-Term Operation of the Central Valley Project and State Water Project, Review Period Ends: 01/04/2016, Contact: Ben Nelson 916-414-2424.

EIS No. 20150338, Draft, BLM, NM, Copper Flat Copper Mine, Comment Period Ends: 01/19/2016, Contact: Doug Haywood 575-525-4498.

EIS No. 20150339, Final, USN, NV, Military Readiness Activities at Fallon Range Training Complex, Review Period Ends: 01/04/2016, Contact: Amy Kelley 619-532-2799.

EIS No. 20150340, Third Draft Supplemental, USFS, MT, Beaverhead-Deerlodge National Forest Land and Resource Management Plan to comply with District of Mont Court Order, Comment Period Ends: 03/03/2016, Contact: Jan Bowey 406-842-5432.

EIS No. 20150341, Final, NPS, FL, East Everglades Expansion Area Land Acquisition, Review Period Ends: 01/04/2016, Contact: Brien Culhane 305-242-7717.

EIS No. 20150342, Draft, USFS, CO, Glade Rangeland Management, Comment Period Ends: 02/02/2016, Contact: Heather Musclow 970-882-6818.

Dated: December 1, 2015.
Dawn Roberts,
Management Analyst, NEPA Compliance Division, Office of Federal Activities.

[FR Doc. 2015-30691 Filed 12-3-15; 8:45 am]

BILLING CODE 6560-50-P